DEPARTMENT OF STATE

[Public Notice 4248]

Office of the Procurement Executive; 30-Day Notice of Proposed Information Collection: Department of State; Acquisition Regulation (DOSAR); OMB Control Number 1405-0050

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a currently approved collection.

Originating Office: Bureau of Administration, Office of the Procurement Executive.

Title of Information Collection: Department of State Acquisition Regulation (DOSAR).

Frequency: On occasion.

Form Number: N/A.

Respondents: Any business, other for-profit, individual, not-for-profit, or household organizations wishing to receive Department of State contracts.

Estimated Number of Respondents: 2,790.

Average Hours Per Response: Varies.

Total Estimated Burden: 225,503 hours.

Public comments are being solicited to permit the agency to:

• Evaluate whether the proposed information collection is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Gladys Gines, Procurement Analyst, Office of the Procurement Executive, 2201 C Street, NW, SA-6, Room 603, U.S. Department of State, Washington, DC 20520; telephone at (703) 516-1691. Public comments and questions should be directed to the State Department Desk Officer, Office of Information and Regulatory Affairs, Office of Management and Budget (OMB), Washington, DC 20530, who may be reached on (202) 395-3897.

Dated: December 18, 2002.
Lloyd W. Pratsch,
Procurement Executive, Bureau of Administration, Department of State.

[FR Doc. 03-695 Filed 1-13-03; 8:45 am]

BILLING CODE 4710-24-P